DEPARTMENT OF COMMERCE

International Trade Administration

(C-423-806, C-351-818, C-201-810, C-469-804, C-401-804, A-423-805, A-351-817, A-405-802, A-428-816, A-201-809, A-455-802, A-485-803, A-469-803, A-401-805, A-412-814, A-583-080)

Revocation Pursuant to Second Five-Year (Sunset) Reviews: Countervailing Duty Orders on Certain Steel Products from Belgium, Brazil, Mexico, Spain and Sweden; Antidumping Duty Orders on Certain Cut-to-Length Carbon Steel Plate from Belgium, Brazil, Finland, Germany, Mexico, Poland, Romania, Spain, Sweden, and the United Kingdom; Antidumping Finding on Carbon Steel Plate from Taiwan

AGENCY: Import Administration, International Trade Administration, Department of Commerce.

SUMMARY: As a result of the determinations by the International Trade Commission (the Commission) that revocation of the countervailing duty (CVD) orders on certain steel products from Belgium, Brazil, Mexico, Spain, and Sweden ¹; the antidumping duty (AD) orders on cut-to-length carbon steel plate (CTL plate) from Belgium, Brazil, Finland, Germany, Mexico, Poland, Romania, Spain, Sweden, and the United Kingdom; and the antidumping (AD) finding on carbon steel plate from Taiwan, would not be likely to lead to a continuation or recurrence of material injury to an industry in the United States within a reasonably foreseable time, the Department of Commerce (the Department) is publishing this notice of revocation of these CVD and AD orders and AD finding pursuant to Section 751(d)(2) of the Tariff Act of 1930 as amended (the Act).

¹ Each of these countervailing duty orders on certain steel products covered certain cut-to-length plate only. See, e.g., Countervailing Duty Order and Amendment to Final Affirmative Countervailing Duty Determination: Certain Steel Products From Belgium 58 FR 43749 (August 17, 1993).

EFFECTIVE DATE: December 15, 2005.

FOR FURTHER INFORMATION CONTACT: Deborah Scott, Jacqueline Arrowsmith, or Dana Mermelstein, AD/CVD Operations, Import Administration, International Trade Administration, U.S. Department of Commerce, 14th Street and Constitution Ave., NW, Washington, DC 20230; telephone: (202) 482-2657, (202) 482-5255; (202) 482-1391, respectively.

SUPPLEMENTARY INFORMATION:

Background

On December 15, 2000, the Department published the continuation of the countervailing duty orders on CTL plate from Belgium, Brazil, Mexico, Spain, and Sweden; the antidumping duty orders on CTL plate from Belgium, Brazil, Finland, Germany, Mexico, Poland, Romania, Spain, Sweden, and the United Kingdom; and the antidumping finding on carbon steel plate from Taiwan. See Continuation of Antidumping and Countervailing Duty Orders on Certain Carbon Steel Products from Australia, Belgium, Brazil, Canada, Finland, France, Germany, Japan, South Korea, Mexico, Poland, Romania, Spain, Sweden, Taiwan, and the United Kingdom, 65 FR 78469 (December 15, 2000)(Continuation Notice).² On November 1, 2005, pursuant to section 751(c) of the Act and 19 CFR 351.218, the Department initiated, and the Commission instituted, the sunset reviews of these countervailing and antidumping duty orders, and antidumping finding, by publishing the respective notices of initiation in the Federal Register. See Initiation of Five-Year (“Sunset”) Reviews, 70 FR 65884 (November 1, 2005) and Certain Carbon Steel Products From Australia, Belgium, Brazil, Canada, Finland, France, Germany, Japan, Korea, Mexico, Poland, Romania, Spain, Sweden, Taiwan, and United Kingdom, 70 FR 62324 (October 31, 2005).

² In addition to the continuations of the CTL plate orders, this notice included in the continuations of orders on corrosion-resistant carbon steel flat products, which are not subject to the instant revocation notice.

As a result of the sunset reviews, the Department found that revocation of the countervailing duty orders would likely lead to continuation or recurrence of countervailable subsidies, and notified the Commission of the countervailing duty rates likely to prevail were the orders revoked. See Cut-to Length Carbon Steel Plate from Brazil: Final Results of Expedited Five-year (“Sunset”) Review of the Countervailing Duty Order, 71 FR 32522 (June 6, 2006); Cut-to Length Carbon Steel Plate from Mexico: Final Results of Expedited Five-year (“Sunset”) Review of the Countervailing Duty Order, 71 FR 32521 (June 6, 2006); Cut-to Length Carbon Steel Plate from Spain: Final Results of Expedited Five-year (“Sunset”) Review of the Countervailing Duty Order, 71 FR 32523 (June 6, 2006). See also Cut-to Length Carbon Steel Plate from Belgium: Final Results of Full Sunset Review, 71 FR 58585 (October 4, 2006); Final Results of Full Sunset Review: Cut-to-Length Carbon Steel Plate from Sweden, 71 FR 58587 (October 4, 2006).

The Department also found that revocation of the antidumping duty orders and finding would likely lead to continuation or recurrence of dumping, and notified the Commission of the magnitude of the margins likely to prevail were the orders and finding to be revoked. See Cut-to-Length Carbon Steel Plate from Belgium, Brazil, Finland, Germany, Mexico, Poland, Romania, Spain, Sweden, and the United Kingdom and Carbon Steel Plate from Taiwan; Second Five-year (Sunset) Reviews of Antidumping Duty Orders and Antidumping Finding; Final Results, 71 FR 11577 (March 8, 2006).

On December 14, 2006, the Commission determined that revocation of these countervailing and antidumping duty orders, and of the antidumping finding on carbon steel plate from Taiwan, would not be likely to lead to continuation or recurrence of material injury to an industry in the United States within a reasonably foreseeable time, pursuant to section 751(c) of the Act. The Commission notified the Department and published its decision on January 31, 2007. See Certain Carbon Steel Products From Australia, Belgium, Brazil, Canada, Finland, France, Germany, Japan, Korea, Mexico, Poland, Romania, Spain, Sweden, Taiwan, and the United Kingdom, 72 FR 4529 (January 31, 2007) and USITC Publication 3899 entitled Certain Carbon Steel Products from Australia, Belgium, Brazil, Canada, Finland, France, Germany, Japan, Korea, Mexico, Poland, Romania, Spain, Sweden, Taiwan, and the United Kingdom: Investigation Nos. AA1921-197 (Second Review); 701-TA-319, 320, 325-327, 348, and 350 (Second Review); and 731-TA-573, 574, 576, 578, 582-587, 612, and 614-618 (Second Review) (January 2007).

Scope of the Countervailing Duty Orders (CTL Plate from Belgium, Brazil, Mexico, Spain and Sweden) and Antidumping Duty Orders (CTL Plate from Belgium, Brazil, Finland, Germany, Mexico, Poland, Romania, Spain, Sweden, and the United Kingdom)

The products covered by these countervailing and antidumping duty orders include hot-rolled carbon steel universal mill plates (i.e., flat-rolled products rolled on four faces or in a closed box pass, of a width exceeding 150 millimeters but not exceeding 1,250 millimeters and of a thickness of not less than 4 millimeters, not in coils and without patterns in relief), of rectangular shape, neither clad, plated nor coated with metal, whether or not painted, varnished, or coated with plastics or other nonmetallic substances; and certain hot-rolled carbon steel flat-rolled products in straight lengths, of rectangular shape, hot rolled, neither clad, plated, nor coated with metal, whether or not painted, varnished, or coated with plastics or other nonmetallic substances, 4.75 millimeters or more in thickness and of a width which exceeds 150 millimeters and measures at least twice the thickness, as currently classifiable in the U.S. Harmonized Tariff Schedule (HTSUS) under item numbers 7208.40.3030, 7208.40.3060, 7208.51.0030, 7208.51.0045, 7208.51.0060, 7208.52.0000, 7208.53.0000, 7208.90.0000, 7210.70.3000, 7210.90.9000, 7211.13.0000, 7211.14.0030, 7211.14.0045, 7211.90.0000, 7212.40.1000, 7212.40.5000, and 7212.50.0000. Included are flat-rolled products of non-rectangular cross-section where such cross-section is achieved subsequent to the rolling process (i.e., products which have been “worked after rolling”) -- for example, products which have been beveled or rounded at the edges. Excluded is grade X-70 plate. These HTSUS item numbers are provided for convenience and customs purposes. The written description remains dispositive.

As a result of changed circumstances reviews with respect to Finland, Germany, and the United Kingdom,³ the antidumping duty orders on all three countries and the countervailing duty order on the United Kingdom⁴ were partially revoked with respect to certain cut-to-length carbon steel plate with a maximum thickness of 80 mm in steel grades BS 7191, 355 EM and 355 EMZ, as amended by Sable Offshore Energy Project specification XB MOO Y 15 0001, types 1 and 2.

³”See Certain Cut-To-Length Carbon Steel Plate from Finland, Germany and the United Kingdom: Final Results of Changed Circumstances Antidumping Duty and Countervailing Duty Reviews, and Revocation of Orders in Part, 64 FR 46343 (August 25, 1999).

⁴The Department found that revocation would not be likely to lead to continuation or recurrence of countervailable subsidies and revoked the order on cut-to-length carbon steel plate from the United Kingdom. See Cut-to Length Carbon Steel Plate from the United Kingdom: Final Results of Full Sunset Review, 71 FR 58587 (October 4, 2006).

As a result of a decision by the Court of International Trade,⁵ cut-to-length floor plate “with patterns in relief derived directly from the rolling process” was excluded from the scope of the countervailing duty and antidumping duty orders on CTL Plate from Belgium.

⁵ See Duferco Steel, Inc. v. United States, 26 CIT 1241 (October 17, 2002).

Scope of the Antidumping Finding (Carbon Steel Plate from Taiwan)

The merchandise covered by this antidumping finding is hot-rolled carbon steel plate, 0.1875 inch or more in thickness, over 8 inches in width, not in coils, not pickled, not coated or plated with metal, not clad, other than black plate, and not pressed or stamped to nonrectangular shape. The merchandise under review is currently classifiable under items 7208.40.30.30, 7208.40.30.60, 7208.51.00.30, 7208.51.00.45, 7208.51.00.60, 7208.52.00.00, 7208.90.00.00, 7210.70.30.00, 7210.90.90.00, 7211.13.00.00, 7211.14.00.30, 7211.14.00.45, 7211.90.00.00, 7212.40.10.00, 7212.40.50.00, and 7212.50.00.00 of the HTSUS. Although the HTSUS subheading is provided for convenience and customs purposes, the written description of the merchandise under investigation is dispositive.

Determination

As a result of the determination by the Commission that revocation of these countervailing and antidumping duty orders, and antidumping finding, is not likely to lead to continuation or recurrence of material injury to an industry in the United States, the Department is revoking the countervailing duty orders on CTL plate from Belgium, Brazil, Mexico, Spain and Sweden; the antidumping duty orders on CTL plate from Belgium, Brazil, Finland, Germany, Mexico, Poland, Romania, Spain, Sweden, and the United Kingdom; and the antidumping finding on carbon steel plate from Taiwan, pursuant to sections 751(c) and 751(d) of the Act. Pursuant to section 751(d)(2) of the Act and 19 CFR 351.222(i)(2)(i), the effective date of revocation is December 15, 2005 (i.e., the fifth anniversary of the date of publication in the Federal Register of the Continuation Notice). The Department will notify U.S. Customs and Border Protection to discontinue suspension of liquidation and collection of cash deposits on entries of the subject merchandise entered or withdrawn from warehouse on or after December 15, 2005, the effective date of revocation of these countervailing and antidumping duty orders, and antidumping finding. The Department will complete any pending administrative reviews of these orders or finding and will conduct administrative reviews of subject merchandise entered prior to the effective date of revocation in response to appropriately filed requests for review.

This notice also serves as the only reminder to parties subject to administrative protective order (APO) of their responsibility concerning the return/destruction or conversion to judicial protective order of proprietary information disclosed under APO in accordance with 19 CFR 351.305(a)(3). Failure to comply is a violation of the APO which may be subject to sanctions.

These revocations pursuant to five-year sunset reviews and this notice are in accordance with sections 751(c) and 751(d)(2) of the Act and are published pursuant to section 777(i)(1) of the Act.

Dated: February 2, 2007.
David M. Spooner,
Assistant Secretary for Import Administration.

[FR Doc. E7-2220 Filed 2-9-07; 8:45 am]

Billing Code: 3510-DS-S